DEPARTMENT OF THE INTERIOR

Fish and Wildlife Service

[FWS-R4-ES-2020-N129; FXES11140400000-201-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by October 29, 2020.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 88789B-1 | Sharon Davis, Evening Shade, AR | Indiana bat (Myotis sodalis), gray bat (Myotis grisescens), northern long-eared bat (Myotis septentrionalis), Ozark big-eared bat (Corynorhinus townsendii ingens), and Virginia big-eared bat (Corynorhinus townsendii virginianus) | Alabama, Arkansas, Connecticut, Delaware, the District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring | Enter hibernacula or maternity roost caves, salvage dead bats, capture with mist nets or harp traps, handle, identify, band, radio-tag, collect hair samples, swab, and wing-punch | Amendment.
TE 06338C-2 | David Foltz II, Weirton, WV | Fish: Candy darter (Etheostoma osburni), diamond darter (Crystallaria cincotta), and Roanoke logperch (Percina rex); Mussels: Clubshell (Pleurobema clava), cracking pearlymussel (Hemistena lata), Cumberland combshell (Epioblasma brevidens), dromedary pearlymussel (Dromus dromas), fanshell (Cyprogenia stegaria), fat pocketbook (Potamilus capax), fluted kidneyshell (Ptychobranchus subtentus), Higgins eye pearlymussel (Lampsilis higginsii), James River spinymussel (Pleurobema collina), northern riffleshell (Epioblasma torulosa rangiana), orangefoot pimpleback (Plethobasus cooperianus), oyster mussel (Epioblasma capsaeformis), pink mucket (Lampsilis abrupta), purple cat's paw (Epioblasma obliquata obliquata), rabbitsfoot (Quadrula cylindrica spp. cylindrica), rayed bean (Villosa fabalis), ring pink (Obovaria retusa), rough pigtoe (Pleurobema plenum), sheepnose (Plethobasus cyphyus), snuffbox (Epioblasma triquetra), spectaclecase (Cumberlandia monodonta), tubercled blossom (Epioblasma torulosa torulosa), white cat's paw (Epioblasma obliquata perobliqua), and white wartyback (Plethobasus cicatricosus); Crayfish: Nashville crayfish (Orconectes shoupi) | Alabama, Arkansas, Georgia, Illinois, Indiana, Iowa, Kansas, Kentucky, Louisiana, Michigan, Minnesota, Mississippi, Missouri, Nebraska, New York, North Carolina, Ohio, Oklahoma, Pennsylvania, Tennessee, Virginia, West Virginia, and Wisconsin | Presence/absence surveys, population monitoring | Fish: Electro-shock, seine, capture, handle, identify, and release; Mussels: Remove from the substrate for identification, identify, return, and salvage relic shells; Crayfish: Capture via seining, handle, identify, and release | Amendment.
TE 64232B-1 | Joshua Young, Lexington, KY | Bats: Indiana bat (Myotis sodalis), gray bat (Myotis grisescens), northern long-eared bat (Myotis septentrionalis), and Virginia big-eared bat (Corynorhinus townsendii virginianus); Mussels: Clubshell (Pleurobema clava), cracking pearlymussel (Hemistena lata), Cumberland bean pearlymussel (Villosa trabalis), Cumberlandian combshell (Epioblasma brevidans), Cumberland elktoe (Alasmidonta atropurpurea), dromedary pearlymussel (Dromus dromas), fanshell (Cyprogenia stegaria), fat pocketbook (Potamilus capax), fluted kidneyshell (Ptychobranchus subtentus), little-wing pearlymussel (Pegias fabula), northern riffleshell (Epioblasma torulosa rangiana), orange-foot pimpleback pearlymussel (Plethobasus cooperianus), oyster mussel (Epioblasma capsaeformis), pink mucket pearlymussel (Lampsilis abrupta), purple cat's paw (Epioblasma obliquata obliquata), rabbitsfoot (Quadrula cylindrica cylindrica), rink ping (Obovaria retusa), rough pigtoe (Pleurobema plenum), scaleshell (Leptodea leptodon), sheepnose (Plethobasus cyphyus), slabside pearlymussel (Pleuronaia dolabelloidies), snuffbox (Epioblasma triquetra), spectaclecase mussel (Cumberlandia monodonta), tan riffleshell (Epioblasma walkeri), tubercled-blossom pearlymussel (Epioblasma torulosa torulosa), and white wartyback pearlymussel (Plethobasus cicatricosus) | Bats: Alabama, Arkansas, Georgia, Illinois, Indiana, Kentucky, Maryland, Mississippi, Missouri, North Carolina, Ohio, Pennsylvania, South Carolina, Tennessee, Virginia, and West Virginia; Mussels: Kentucky | Presence/absence surveys, studies to document habitat use, and population monitoring | Bats: Enter hibernacula and maternity roost caves, capture with mist nets or harp traps, handle, identify, band, and radio-tag; Mussels: capture, identify, tag, release, and collect relict shells | Renewal.
TE 206741-2 | Metro Water Services, Nashville, TN | Nashville crayfish (Orconectes shoupi) | Mill Creek Watershed, Davidson County, TN | Presence/absence surveys, population monitoring | Capture, handle, identify, measure, sex, and release | Renewal/Amendment.
TE 98596B-2 | Sarah Veselka, Morgantown, WV | Big Sandy crayfish (Cambarus callainus) and Guyandotte River crayfish (Cambarus veteranus) | Kentucky, Virginia, and West Virginia | Presence/absence surveys | Capture, handle, identify, measure, and release | Amendment.
TE 82659D-0 | Sarah Messer, Huntington, WV | American burying beetle (Nicrophorus americanus) | Arkansas, Kansas, Massachusetts, Nebraska, Ohio, Oklahoma, Rhode Island, South Dakota, and Texas | Presence/absence surveys | Capture, handle, identify, and release | New.
TE 83157D-0 | Matthew Miller, Ashland, OR | Sarracenia oreophila (green pitcher-plant), S. rubra ssp. alabamensis (Alabama canebrake pitcher-plant), and S. r. ssp. jonesii (Mountain sweet pitcher-plant) | Oregon | Interstate commerce | Sell artificially propagated plants in interstate commerce | New.
TE 68616B-2 | Carla Atkinson, University of Alabama, Tuscaloosa, AL | Mussels: Alabama (=inflated) heelsplitter (Potamilus inflatus), Alabama lampmussel (Lampsilis virescens), Alabama moccasinshell (Medionidus acutissimus), Chipola slabshell (Elliptio chipolaensis), Coosa moccasinshell (Medionidus parvulus), cracking pearlymussel (Hemistena lata), Cumberlandian combshell (Epioblasma brevidans), dark pigtoe (Pleurobema furvum), fat threeridge (Amblema neislerii), fine-lined pocketbook (Lampsilis altilis), fine-rayed pigtoe (Fusconaia cuneolus), fluted kidneyshell (Ptychobranchus subtentus), Georgia pigtoe (Pleurobema hanleyianum), Gulf moccasinshell (Medionidus penicillatus), heavy pigtoe (Pleurobema taitianum), orange-nacre mucket (Lampsilis perovalis), oval pigtoe (Pleurobema pyriforme), ovate clubshell (Pleurobema perovatum), oyster mussel (Epioblasma capsaeformis), pale lilliput pearlymussel (Toxolasma cylindrellus), purple bankclimber (Elliptoideus sloatianus), rabbitsfoot (Quadrula cylindrica cylindrica), ring pink (Obovaria retusa), round ebonyshell (Fusconaia rotulata), shiny pigtoe (Fusconaia cor), shinyrayed pocketbook (Lampsilis subangulata), slabside pearlymussel (Lexingtonia dolabelloides), snuffbox mussel (Epioblasma triquetra), southern clubshell (Pleurobema decisum), southern combshell (Epioblasma penita), southern pigtoe (Pleurobema georgianum), and triangular kidneyshell (Ptychobranchus greeni); Gastropods: Tulotoma snail (Tulotoma magnifica) | Alabama, Georgia, and Tennessee | Presence/absence surveys and excretion/respiration Studies | Capture, handle, identify, hold temporarily in containers in stream, and release | Renewal.

Authority

We publish this notice under section 10(c) of the Endangered Species Act of 1973, as amended (16 U.S.C. 1531 et seq.).

John Tirpak,
Deputy Assistant Regional Director, Ecological Services.

[FR Doc. 2020-21394 Filed 9-28-20; 8:45 am]

BILLING CODE 4333-15-P